DEPARTMENT OF STATE

[Public Notice: 11683]

Secretary of State's Determination Under the Foreign Assistance Act of 1961 To Provide Military Assistance to the Philippines To Support Counterterrorism Operations

ACTION: Determination.

SUMMARY: The State Department is publishing a determination signed November 9, 2020 by the Secretary of State regarding the provision of military assistance to the Philippines to support counterterrorism operations.

SUPPLEMENTARY INFORMATION: Below is the “Determination Under Section 506(a)(1) of the Foreign Assistance Act of 1961 to Provide Military Assistance to the Philippines to Support Counterterrorism Operations.”

Stanley L. Brown,
Acting Assistant Secretary, Bureau of Political-Military Affairs, Department of State.

[FR Doc. 2022-08110 Filed 4-14-22; 8:45 am]

BILLING CODE 4710-25-P